DEPARTMENT OF THE INTERIOR

National Park Service

[NPS-WASO-NAGPRA-NPS0039362; PPWOCRADN0-PCU00RP14.R50000]

Notice of Intended Disposition: U.S. Department of Agriculture, Forest Service, Prescott National Forest, Chino Valley, AZ

AGENCY: National Park Service, Interior.

ACTION: Notice.

SUMMARY: In accordance with the Native American Graves Protection and Repatriation Act (NAGPRA), the U.S. Department of Agriculture, Forest Service, Prescott National Forest (PNF) intends to carry out the disposition of an associated funerary object removed from Federal or Tribal lands to the lineal descendants, Indian Tribe, or Native Hawaiian organization with priority for disposition in this notice.

DATES: Disposition of the associated funerary object in this notice may occur on or after February 18, 2025. If no claim for disposition is received by January 20, 2026, the associated funerary object in this notice will become unclaimed associated funerary object.

ADDRESSES: Sarah Clawson, Forest Supervisor, Prescott National Forest, 735 N. Highway 89, Chino Valley, AZ 86323, telephone (928) 443-8213, email sarah.clawson@usda.gov.

SUPPLEMENTARY INFORMATION: This notice is published as part of the National Park Service's administrative responsibilities under NAGPRA. The determinations in this notice are the sole responsibility of the Prescott National Forest, and additional information on the associated funerary object in this notice, including the results of consultation, can be found in the related records. The National Park Service is not responsible for the identifications in this notice.

Abstract of Information Available

Based on the information available, one associated funerary object has been reasonably identified. A ceramic jar and human remains were discovered eroding out of an arroyo by a hiker near the Salt Mine Road (Verde Ranger District, Yavapai County, Arizona) on January 10, 2020. The jar was also removed that same day. The jar has been classified as Verde Brown plainware (Southern Sinagua) and is 20-25cm in diameter and approximately 20cm in height. The jar was found fractured, with about half of its entirety present. The human remains were stabilized in place in January 2020 and again in July 2021. The discovery location was assigned a site number, AR-03-09-05-933, and is being monitored by PNF archaeologists. The jar is currently secured in a safe location away from public view at the Verde Valley Archaeological Center, Camp Verde, Arizona.

Determinations

The Prescott National Forest has determined that:

• The one object described in this notice is reasonably believed to have been placed intentionally with or near individual human remains at the time of death or later as part of the death rite or ceremony.

• The Hopi Tribe of Arizona has priority for disposition of the associated funerary object described in this notice.

Claims for Disposition

Written claims for disposition of the associated funerary object in this notice must be sent to the appropriate official identified in this notice under ADDRESSES. If no claim for disposition is received by January 8, 2026, the associated funerary object in this notice will become an unclaimed associated funerary object. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the associated funerary object in this notice may occur on or after February 18, 2025. If competing claims for disposition are received, the Prescott National Forest must determine the most appropriate claimant prior to disposition. Requests for joint disposition of the associated funerary object are considered a single request and not competing requests. The Prescott National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01174 Filed 1-16-25; 8:45 am]

BILLING CODE 4312-52-P